DEPARTMENT OF TRANSPORTATION

Federal Aviation Administration

14 CFR Part 39

[Docket No. 2002-NM-183-AD]

RIN 2120-AA64

Airworthiness Directives; Airbus Model A319 and A320 Series Airplanes

AGENCY: Federal Aviation Administration, DOT.

ACTION: Notice of proposed rulemaking (NPRM).

SUMMARY: This document proposes the supersedure of an existing airworthiness directive (AD), applicable to all Airbus Model A320 series airplanes, that currently requires repetitive ultrasonic inspections to detect fatigue cracking in the wing/fuselage joint cruciform fittings, and corrective actions if necessary. This action would require repetitive ultrasonic inspections for fatigue cracking in the wing/fuselage joint cruciform fittings at a reduced inspection threshold and repetitive interval. This action also would add airplanes to the applicability of the existing AD. The actions specified by the proposed AD are intended to detect and correct fatigue cracks on the wing/fuselage joint cruciform fittings, which could result in reduced structural integrity of the wing/fuselage. This action is intended to address the identified unsafe condition.

DATES: Comments must be received by January 5, 2004.

ADDRESSES: Submit comments in triplicate to the Federal Aviation Administration (FAA), Transport Airplane Directorate, ANM-114, Attention: Rules Docket No. 2002-NM-183-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-183-AD” in the subject line and need not be submitted in triplicate. Comments sent via the Internet as attached electronic files must be formatted in Microsoft Word or 2000 or ASCII text.

The service information referenced in the proposed rule may be obtained from Airbus, 1 Rond Point Maurice Bellonte, 31707 Blagnac Cedex, France. This information may be examined at the FAA, Transport Airplane Directorate, 1601 Lind Avenue, SW., Renton, Washington.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-183-AD.” The postcard will be date stamped and returned to the commenter.

Availability of NPRMs

Any person may obtain a copy of this NPRM by submitting a request to the FAA, Transport Airplane Directorate, ANM-114, Attention: Rules Docket No. 2002-NM-183-AD, 1601 Lind Avenue, SW., Renton, Washington 98055-4056.

Discussion

On February 13, 1998, the FAA issued AD 98-04-49, amendment 39-10360 (63 FR 9934, February 27, 1998), applicable to all Airbus Model A320 series airplanes. That AD requires repetitive ultrasonic inspections to detect fatigue cracking in the wing/fuselage joint cruciform fittings, and corrective actions if necessary. That action was prompted by issuance of mandatory continuing airworthiness information by a foreign civil airworthiness authority. The requirements of that AD are intended to detect and correct fatigue cracks on the wing/fuselage joint cruciform fittings, which could result in reduced structural integrity of the wing/fuselage.

Actions Since Issuance of Previous Rule

The inspection threshold and repetitive intervals specified in AD 98-04-49 were based on full-scale fatigue tests. Since the issuance of that AD, the airplane manufacturer has surveyed the Model A320 series airplane fleet and found that parameters such as the weight of fuel at landing and the mean flight duration are higher than those defined for the analysis of fatigue-related tasks. Thus, the manufacturer has adjusted the reference fatigue mission. This adjustment has resulted in a reduction in the threshold and repetitive inspection intervals required by the existing AD. In addition, it has been determined that Model A319 series airplanes should also be subject to these same inspections at the reduced threshold and interval.

Explanation of Relevant Service Information

Airbus has issued Service Bulletin A320-57-1051, Revision 04, dated November 27, 2001. (The existing AD refers to Revision 01 of that service bulletin, dated March 21, 1996, as the acceptable source of service information for the actions required by that AD.) Revision 04 of the service bulletin describes procedures for repetitive ultrasonic inspections for cracking around fastener “a” on the rear section of the cruciform fitting at rib 1 on both wings. This inspection is similar to that described in Revision 01 of the service bulletin. If a suspected crack is found, the service bulletin specifies to remove the fastener and perform a rotative probe inspection of the fastener hole. If no crack is found, the service bulletin specifies to install a new fastener of the same diameter as the one that was removed. If a crack is found that measures 2.5 mm or less, the service bulletin specifies to drill the hole to remove the crack, and perform a second rotative probe inspection of the drilled hole to detect any crack. If the crack has been removed, the service bulletin specifies to install bushings and a new bolt. If a crack is found that is more than 2.5 mm, or if the second rotative probe inspection reveals that the crack is still present, the service bulletin specifies to contact the manufacturer for repair instructions. The Direction Générale de l'Aviation Civile (DGAC), which is the airworthiness authority for France, classified this service bulletin as mandatory and issued French airworthiness directive 2002-340(B), dated June 26, 2002, to ensure the continued airworthiness of these airplanes in France.

FAA's Conclusions

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Proposed Rule

Since an unsafe condition has been identified that is likely to exist or develop on other airplanes of the same type design registered in the United States, the proposed AD would supersede AD 98-04-49 to require repetitive ultrasonic inspections to detect fatigue cracking in the wing/fuselage joint cruciform fittings, and corrective actions if necessary. This action would require repetitive inspections on additional airplanes not included in the applicability of the existing AD. The actions would be required to be accomplished in accordance with the service bulletin described previously, except as discussed below.

Differences Between Proposed AD and Service Bulletin

Although the service bulletin specifies that operators may contact the manufacturer for disposition of certain repair conditions, this proposal would require operators to repair those conditions per a method approved by either the FAA or the DGAC (or its delegated agent). In light of the type of repair that would be required to address the unsafe condition, and consistent with existing bilateral airworthiness agreements, we have determined that, for this proposed AD, a repair approved by either the FAA or the DGAC would be acceptable for compliance with this proposed AD.

Operators also should note that, although the Accomplishment Instructions of the referenced service bulletin describe procedures for reporting inspection results to Airbus, this proposed AD would not require that action.

Cost Impact

The actions that are currently required by AD 98-04-49 are applicable to 132 airplanes of U.S. registry and take approximately 2 work hours per airplane to accomplish (not including time for gaining access and closing up), at an average labor rate of $65 per work hour. Based on these figures, the cost impact of the currently required actions on U.S. operators is estimated to be $17,160, or $130 per airplane.

This new proposed AD would affect approximately 475 airplanes of U.S. registry. The new actions that are proposed in this AD action would take approximately 2 work hours per airplane to accomplish, at an average labor rate of $65 per work hour. Based on these figures, the cost impact of the proposed requirements of this AD on U.S. operators is estimated to be $61,750, or $130 per airplane.

The cost impact figures discussed above are based on assumptions that no operator has yet accomplished any of the current or proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-10360 (63 FR 9934, February 27, 1998), and by adding a new airworthiness directive (AD), to read as follows:

Airbus: Docket 2002-NM-183-AD. Supersedes AD 98-04-49, Amendment 39-10360.

Applicability: All Model A319 and A320 series airplanes, certificated in any category.

Compliance: Required as indicated, unless accomplished previously.

To detect and correct fatigue cracks on the wing/fuselage joint cruciform fittings, which could result in reduced structural integrity of the wing/fuselage, accomplish the following:

Requirements of AD 98-04-49

Ultrasonic Inspection (Model A320 Series Airplanes)

(a) For Model A320 series airplanes: Prior to the accumulation of 28,000 total landings, or within 60 days after April 3, 1998 (the effective date of AD 98-04-49, amendment 39-10360), whichever occurs later, perform an ultrasonic inspection to detect fatigue cracking in the wing/fuselage joint cruciform fittings, in accordance with Airbus Service Bulletin A320-57-1051, Revision 01, dated March 21, 1996.

(1) If no cracking is detected, repeat the inspection thereafter at intervals not to exceed 20,000 landings, until paragraph (c) of this AD is accomplished.

(2) If any crack is detected, prior to further flight, repair it in accordance with the service bulletin. Thereafter, repeat the inspection at the times specified in paragraph (a)(2)(i) or (a)(2)(ii) of this AD, as applicable.

(i) If the crack that was detected and repaired was greater than 2.5 mm: Repeat the inspection prior to the accumulation of 32,000 landings since accomplishment of the repair; and thereafter at intervals not to exceed 32,000 landings.

(ii) If the crack that was detected and repaired was less than or equal to 2.5 mm: Repeat the inspection prior to the accumulation of 28,000 landings since accomplishment of the repair; and thereafter at intervals not to exceed 20,000 landings.

New Requirements of This AD

Ultrasonic Inspection (Model A319 Series Airplanes)

(b) For Model A319 series airplanes: Perform an ultrasonic inspection to detect fatigue cracking in the wing/fuselage joint cruciform fittings, in accordance with Airbus Service Bulletin A320-57-1051, Revision 04, dated November 27, 2001. Do the initial inspection at the later of the times specified in paragraphs (b)(1) and (b)(2) of this AD. Repeat the inspection thereafter at intervals not to exceed the applicable interval specified in paragraph 1.E.(2) of the service bulletin.

(1) Prior to the accumulation of 20,000 total flight cycles or 42,000 total flight hours, whichever is first.

(2) Prior to the accumulation of 28,000 total flight cycles or within 3,500 flight cycles after the effective date of this AD, whichever is first.

Ultrasonic Inspection (Model A320 Series Airplanes)

(c) For Model A320 series airplanes: Perform an ultrasonic inspection to detect fatigue cracking in the wing/fuselage joint cruciform fittings, in accordance with Airbus Service Bulletin A320-57-1051, Revision 04, dated November 27, 2001, at the later of the times specified in paragraphs (c)(1) and (c)(2) of this AD, except as required by paragraph (f) of this AD. Accomplishment of the inspection required by this paragraph terminates the repetitive inspections required by paragraph (a) of this AD. Except as required by paragraph (e) of this AD, repeat the ultrasonic inspection at intervals not to exceed the applicable interval specified in paragraph 1.E.(2) of the service bulletin.

(1) Prior to the accumulation of 20,000 total flight cycles or 42,000 total flight hours, whichever is first.

(2) Prior to the accumulation of 28,000 total flight cycles or within 3,500 flight cycles after the effective date of this AD, whichever is first.

Cracking: Corrective Action and Repeat Inspections

(d) If any crack is found during any inspection required by paragraph (b) or (c) of this AD: Before further flight, do all applicable actions in paragraphs B.(1)(b), C.(1), D., and E. (including removing the fastener, performing a rotative probe inspection to confirm the crack or determine the size of the crack, and accomplishing applicable corrective actions) of the Accomplishment Instructions of Airbus Service Bulletin A320-57-1051, Revision 04, dated November 27, 2001, except as provided by paragraph (e) of this AD.

(e) If any crack is found during any inspection required by this AD, and the service bulletin recommends contacting Airbus for appropriate action: Before further flight, repair and perform repetitive inspections per a method and at a repetitive inspection interval approved by the Manager, International Branch, ANM-116, FAA, Transport Airplane Directorate; or the Direction Générale de l'Aviation Civile (DGAC) (or its delegated agent).

Model A320 Series Airplanes Repaired Previously

(f) For Model A320 series airplanes on which a crack measuring more than 2.5 mm was repaired prior to the effective date of this AD per Airbus Service Bulletin A320-57-1051, Revision 01, dated March 21, 1996: Perform repetitive inspections per a method and at an interval approved by the Manager, International Branch, ANM-116, FAA, Transport Airplane Directorate; or the Direction Générale de l'Aviation Civile (DGAC) (or its delegated agent).

Reporting of Inspection Results Not Required

(g) Where the Accomplishment Instructions of Airbus Service Bulletin A320-57-1051, Revision 04, dated November 27, 2001, describe procedures for reporting inspection results to Airbus, this AD does not require such reporting.

Alternative Methods of Compliance

(h) In accordance with 14 CFR 39.19, the Manager, International Branch, ANM-116, is authorized to approve alternative methods of compliance for this AD.

Note 1: The subject of this AD is addressed in French airworthiness directive 2002-340(B), dated June 26, 2002.

Issued in Renton, Washington, on November 28, 2003.
Kalene C. Yanamura,
Acting Manager, Transport Airplane Directorate, Aircraft Certification Service.

[FR Doc. 03-30191 Filed 12-3-03; 8:45 am]

BILLING CODE 4910-13-P